DEPARTMENT OF TRANSPORTATION

Federal Aviation Administration

14 CFR Part 71

[Docket No. FAA-2012-1341; Airspace Docket No. 12-ASO-47]

Proposed Establishment of Class E Airspace; Cleveland, TN

AGENCY: Federal Aviation Administration (FAA), DOT.

ACTION: Notice of proposed rulemaking (NPRM), withdrawal.

SUMMARY: A notice of proposed rulemaking published in the Federal Register of March 6, 2013, to establish Class E airspace at Cleveland Regional Jetport, Cleveland, TN, is being withdrawn. Upon review, the FAA found that, for clarity, combining this proposed rulemaking with another proposal to amend existing airspace is necessary.

DATES: As of June 17, 2013, the proposed rule published March 6, 2013, at 78 FR 14475, is withdrawn.

FOR FURTHER INFORMATION CONTACT: John Fornito, Operations Support Group, Eastern Service Center, Federal Aviation Administration, P.O. Box 20636, Atlanta, Georgia 30320; telephone (404) 305-6364.

SUPPLEMENTARY INFORMATION:

History

On March 6, 2013, a NPRM was published in the Federal Register establishing Class E airspace at Cleveland, TN to accommodate new standard instrument approach procedures for Cleveland Regional Jetport (78 FR 14475). Subsequent to publication the FAA found that existing information for Bradley Memorial Hospital was omitted in the Cleveland, TN proposed rule. Also, there is another proposed rulemaking for Dayton, TN, with Bradley Memorial Hospital information. To avoid confusion this proposed rule is being withdrawn and will be combined with the Dayton, TN, proposed rulemaking.

Lists of Subjects in 14 CFR Part 71:

Airspace, Incorporation by reference, Navigation (air).

The Withdrawal

Accordingly, pursuant to the authority delegated to me, the Notice of Proposed Rulemaking, as published in the Federal Register on March 6, 2013 (78 FR 14475) (FR Doc 2013-05210.), is hereby withdrawn.

Authority: 49 U.S.C. 106(g); 40103, 40113, 40120; E.O. 10854, 24 FR 9565, 3 CFR, 1959-1963 Comp., p. 389.

Issued in College Park, Georgia, on May 28, 2013.
Barry A. Knight,
Manager, Operations Support Group, Eastern Service Center, Air Traffic Organization.

[FR Doc. 2013-13103 Filed 6-14-13; 8:45 am]

BILLING CODE 4910-13-P